DEPARTMENT OF COMMERCE

International Trade Administration

[A-427-818]

Low-Enriched Uranium From France; Preliminary Results of Antidumping Duty Administrative Review; 2012-2013

AGENCY: Enforcement and Compliance, formerly Import Administration, International Trade Administration, Department of Commerce.

SUMMARY: The Department of Commerce (the Department) is conducting an administrative review of the antidumping duty order on low-enriched uranium (LEU) from France.¹ The period of review (POR) is February 1, 2012, through January 31, 2013. The review covers one producer or exporter of the subject merchandise, Eurodif S.A., AREVA NC, and AREVA NC, Inc. (collectively AREVA). The Department preliminarily determines that AREVA made no shipments of subject merchandise during the POR. We invite interested parties to comment on these preliminary results. The deadline for the preliminary results of this review was March 17, 2014. Due to the closure of the Federal Government in Washington, DC on March 17, 2014, the Department reached this determination on the next business day (i.e., March 18, 2014). See Notice of Clarification: Application of “Next Business Day” Rule for Administrative Determination Deadlines Pursuant to the Tariff Act of 1930, As Amended, 70 FR 24533 (May 10, 2005).

¹ See Initiation of Antidumping and Countervailing Duty Administrative Reviews and Request for Revocation in Part, 78 FR 19197 (March 9, 2013).

DATES: Effective Date: March 24, 2014.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Scope of the Order

The product covered by the order is all low-enriched uranium. Low-enriched uranium is enriched uranium hexafluoride (UF6) with a U²³⁵ product assay of less than 20 percent that has not been converted into another chemical form, such as UO2, or fabricated into nuclear fuel assemblies, regardless of the means by which the LEU is produced (including low-enriched uranium produced through the down-blending of highly enriched uranium).²

² For a full description of the scope of the order, see “Decision Memorandum for the Preliminary Results of Antidumping Duty Administrative Review: Low-Enriched Uranium from France: 2012-2013” from Christian Marsh, Deputy Assistant Secretary for Antidumping and Countervailing Duty Operations to Paul Piquado, Assistant Secretary for Enforcement and Compliance (Preliminary Decision Memorandum), dated concurrently with these results and hereby adopted by this notice.

Methodology

The Department is conducting this review in accordance with section 751(a) of the Tariff Act of 1930, as amended (the Act). For a full description of the methodology underlying our conclusions, see the Preliminary Decision Memorandum. The Preliminary Decision Memorandum is on file electronically via Enforcement and Compliance's Antidumping and Countervailing Duty Centralized Electronic Service System (“IA ACCESS”). IA ACCESS is available to registered users at http://iaaccess.trade.gov, and it is available to all parties in the Central Records Unit in Room 7046 of the main Commerce building. In addition, a complete version of the Preliminary Decision Memorandum can be accessed directly at http://enforcement.trade.gov/frn/. The signed Preliminary Decision Memorandum and electronic versions of the Preliminary Decision Memorandum are identical in content.

Preliminary Determination of No Shipments

AREVA timely filed a “no shipment” certification stating that they had no entries of subject merchandise during the POR. However, data that the Department obtained from U.S. Customs and Border Protection showed entries of LEU from AREVA during the POR. The Department issued two questionnaires to AREVA, and received timely responses. Based on the questionnaire responses filed by AREVA, we preliminarily determine that AREVA had no shipments of merchandise subject to the antidumping order on LEU from France during the POR. In addition, the Department finds that it is not appropriate to rescind the review with respect to AREVA but, rather, to complete the review and issue appropriate instructions to U.S. Customs and Border Protection (CBP) based on the final results of this review, as is our current practice.³

³ See, e.g., Certain Frozen Warmwater Shrimp From Thailand: Preliminary Results of Antidumping Duty Administrative Review and Intent To Revoke the Order (in Part); 2011-2012, 78 FR 15686 (March 12, 2013) and the accompanying Decision Memorandum at 7-8.

Preliminary Determination of Revised Entry Requirements

During the course of this review, the Department identified irregularities associated with AREVA's filing of the required certifications for re-exportation.⁴ In light of these problems, and to ensure proper enforcement of the order, the Department preliminarily determines that shipments of LEU from France by AREVA, where the importer claims the above-noted scope exclusion, shall be suspended as antidumping entries with a cash deposit requirement of zero percent ad valorem. These requirements will be effective as of the date of publication of the final results of this administrative review. We invite all interested parties to comment on this issue.

⁴ See Preliminary Decision Memorandum.

Assessment Rates

Since the Department preliminarily found that AREVA had no shipments during the POR, we did not calculate importer-specific assessment rates for these preliminary results of review.

The Department clarified its “automatic assessment” regulation on May 6, 2003. This clarification will apply to entries of subject merchandise during the POR produced by companies included in the final results of review for which these companies did not know that the merchandise was destined for the United States. In such instances, we will instruct CBP to liquidate un-reviewed entries at the all-others rate if there is no rate for the intermediate company(ies) involved in the transaction.⁵

⁵ See Antidumping and Countervailing Duty Proceedings: Assessment of Antidumping Duties, 68 FR 23954 (May 6, 2003).

We intend to issue instructions to CBP 15 days after publication of the final results of this review.

Cash Deposit Requirements

The following deposit requirements will be effective for all shipments of LEU from France entered, or withdrawn from warehouse, for consumption on or after the date of publication of the final results of this administrative review, as provided for by section 751(a)(2)(C) of the Act: (1) The cash deposit rate for AREVA will remain unchanged from the rate assigned to the company in the most recently completed review of that company, except for entries excluded from the order under the re-export provision of the scope, which will require a cash deposit rate of zero percent; (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters will continue to be 19.95 percent, the all-others rate established in the investigation.⁶ These cash deposit requirements, when imposed, shall remain in effect until further notice.

⁶ See Notice of Amended Final Determination of Sales at Less Than Fair Value and Antidumping Duty Order: Low Enriched Uranium From France, 67 FR 6680 (February 13, 2002).

Comments

Interested parties are invited to comment on these preliminary results and submit written arguments or case briefs within 30 days after the date of publication of this notice, unless otherwise notified by the Department.⁷ Parties are reminded that written comments or case briefs are not the place for submitting new factual material. Rebuttal briefs, limited to issues raised in the case briefs, will be due five days later.⁸ Parties that submit case or rebuttal briefs are requested to submit with each argument: (1) A statement of the issue; and (2) a brief summary of the argument. Parties are requested to provide a summary of the arguments not to exceed five pages and a table of statutes, regulations, and cases cited.

⁷ See 19 CFR 351.309(c)(ii).

⁸ See 19 CFR 351.309(d).

Any interested party who wishes to request a hearing, or to participate if one is requested, must submit a written request to the Assistant Secretary for Enforcement and Compliance within 30 days after the day of publication of this notice. A request should contain: (1) The party's name, address, and telephone number; (2) the number of participants; and (3) a list of issues to be discussed.⁹ Issues raised in the hearing will be limited to those raised in case briefs. The Department will issue the final results of administrative review, including the results of our analysis of issues raised in any briefs, within 90 days after the date on which the preliminary results were issued, unless the deadline for the final results is extended.¹⁰

⁹ See 19 CFR 351.310(c).

¹⁰ See 19 CFR 351.213(h).

Notification to Importers

This notice serves as a preliminary reminder to the importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These preliminary results of administrative review are issued and published in accordance with sections 751(a)(1) and 777(i)(1) of the Act.

Dated: March 18, 2014.
Paul Piquado,
Assistant Secretary for Enforcement and Compliance.

[FR Doc. 2014-06388 Filed 3-21-14; 8:45 am]

BILLING CODE 3510-DS-P